FEDERAL HOUSING FINANCE AGENCY

[No. 2010-N-14]

Submission of information collection for approval From the Office of Management and Budget

AGENCY: Federal Housing Finance Agency.

ACTION: Submission of Information Collection for Approval from the Office of Management and Budget.

SUMMARY: The Federal Housing Finance Agency (FHFA) has submitted the following public information collection requirement(s) to the Office of Management and Budget (OMB) for emergency review, and it has been approved under the Paperwork Reduction Act of 1995, Public Law 104-13. To allow interested persons to comment on this information collection, FHFA is publishing this notice and plans to submit a request for a three-year extension of OMB's approval. Comments regarding this information collection should be addressed to the Office of Information and Regulatory Affairs of OMB, Attention: Desk Officer for the Federal Housing Finance Agency, Washington, DC 20503, Fax: 202-395-6974, E-mail: OIRA_Submission@omb.eop.gov. Please also submit comments to FHFA using any one of the following methods and include “Comments: Survey of FHLBank Economic Development Programs, No. 2010-N-14” as the subject:

• E-mail: RegComments@fhfa.gov;

• Federal eRulemaking Portal: http://www.regulations.gov.

• U.S. Mail/Hand Delivery: Federal Housing Finance Agency, Fourth Floor, 1700 G Street, NW., Washington, DC 20552.

We will post all public comments we receive without change, including any personal information you provide, such as your name and address, on the FHFA Web site at http://www.fhfa.gov. In addition, copies of all comments received will be available for examination by the public on business days between the hours of 10 a.m. and 3 p.m., at the Federal Housing Finance Agency, Fourth Floor, 1700 G Street, NW., Washington, DC 20552. To make an appointment to inspect comments, please call the Office of General Counsel at 202-414-6924.

DATES: Written comments should be received on or before November 8, 2010, to be assured of consideration.

FOR FURTHER INFORMATION CONTACT: For additional information about this information collection, or to obtain a copy with applicable supporting documentation, contact Charles McLean, Associate Director, Office of Housing and Community Investments, 202-408-2537, Charles.McLean@fhfa.gov.

Overview of the Information Collection

Title of the Collection: Survey of Federal Home Loan Bank Economic Development Programs.

OMB No.: 2590-0010.

Need and Use of the Information Collection: The Office of Housing and Community Investment (OHCI) of FHFA is conducting research and outreach initiatives to determine ways to enhance the Federal Home Loan Banks' (FHLBanks) capacity to meet the nation's unmet economic development credit needs. At the conclusion of these processes, OHCI expects to propose for public comment amendments to the Community Investment Cash Advance (CICA) Regulation (12 CFR part 952) in late 2011. Amending the regulation will update the regulatory standards to reflect current community and economic development investment strategies and priorities, and clarify a regulation that may be difficult to apply.

As part of the outreach and after discussion with FHFA, six FHLBanks (Pittsburgh, San Francisco, Atlanta, Boston, Dallas, and Des Moines) will host and conduct open-forum discussions in their districts that will consist of a cross section of FHLBank members and end-users who will provide comments on unmet credit needs and their experiences with current FHLBank economic development products and programs. FHFA will send two surveys electronically to participants prior to the open-forum discussions. The surveys will be returned electronically to FHFA staff. FHFA staff and the meeting facilitators will review the survey results to initiate discussions at the open-forums.

In addition to the outreach meetings at the FHLBanks, OHCI is proposing to host an Economic Development Conference in October 2010. This conference will be attended by OHCI staff, FHLBank staff and approximately 100 individuals representing economic development organizations from all segments of the community development field. Participants will discuss current and future national economic development issues, financing challenges, opportunities in the field, and best practices. FHFA staff will send four surveys electronically. At the conference, OHCI staff will conduct concurrent open-forum discussions and use the survey responses to initiate the discussions. The discussions will center on opportunities and challenges in using FHLBank financing to fund economic development projects and activities that will create jobs and spur economic growth. Information from the discussions at the FHLBanks and at the conference will be used to inform FHFA how the CICA regulation may be enhanced.

Affected Public: Private sector.

Costs: FHFA estimates that there will be no annualized capital/start-up costs for the respondents to collect and submit this information.

Type of Respondents: Federal Home Loan Bank Members, Economic Development Organizations, Economic and Community Development Trade Groups, State and Local Economic Development Authorities, and Economists.

Annual Burden Estimates for Respondents
Instrument | Number of respondents | Number of responses per respondent | Average burden per response | Total average burden per response | Total annual burden hours
Survey Questions for Economic Development Organizations (For Aug.—Sep. Open-Forum discussions) | 60 (10 per each location) | × 1 | × 15 mins | = 900 mins | 15 hours (900 mins/60 mins)
Survey Questions for FHLBank Member Lenders (For Aug.-Sep. Open-Forum discussions) | 60 (10 per each location) | × 1 | × 15 mins | = 900 mins | 15 hours (900 mins/60 mins)
Survey Questions for Economic and Community Development Trade Groups (For Oct. conference) | 25 | × 1 | × 15 mins | = 375 mins | 6.25 hours (375 mins/60 mins)
Survey Questions for State and Local Economic Development Authorities (For Oct. conference) | 25 | × 1 | × 15 mins | = 375 mins | 6.25 hours (375 mins/60 mins)
Survey Questions for Economists (For Oct. conference) | 25 | × 1 | × 15 mins | = 375 mins | 6.25 hours (375 mins/60 mins)
Survey Questions for FHLBank Member Lenders (For Oct. conference) | 25 | × 1 | × 15 mins | = 375 mins | 6.25 hours (375/60 mins)

Dated: September 1, 2010.
Edward J. DeMarco,
Acting Director, Federal Housing Finance Agency.

[FR Doc. 2010-22475 Filed 9-8-10; 8:45 am]

BILLING CODE 8070-01-P